ENVIRONMENTAL PROTECTION AGENCY

[ER-FRL-6625-3]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated May 18, 2001 (66 FR 27647).

Draft EISs

ERP No. D-BIA-K39071-00 Rating EC2, Truckee River Water Quality Settlement Agreement and Federal Water Right Acquisition, Implementation, Truckee River, Placer County, CA and Washoe, Storey and Lyon Counties, NV.

Summary: EPA recognized the WQSA signatories work to permanently improve Truckee River water quality and reduce violations of water quality standards. EPA encouraged them to continue to work with us in achieving full compliance with water quality standards. EPA expressed concerns with alternatives, monitoring and mitigation, and cumulative impacts.

ERP No. D-BLM-K40248-AZ Rating EC2, Diamond Bar Road Improvement Project, Road Pavement and Realignment of sections through Grapevine Wash, Right-of-Way Permits Issuance, Mohave County, AZ.

Summary: EPA expressed environmental concerns with potential cumulative impacts, particularly, those from reasonably foreseeable development scenarios. EPA suggested that alternatives further minimize adverse impacts to vegetation, wildlife and cultural resources.

ERP No. D-COE-D36179-WV Rating EO2, Marlington Local Flood Protection, Flood Damage Reduction Measures Evaluation, Levee and Floodwall Construction for Knapp Creek Flood Management, Greenbrier River, Town of Marlington, Pocahontas County, WV.

Summary: EPA expressed environmental concerns that non-structional alternatives, including relocation of residential and non-residential structures to a flood safe site, were not evaluated in detail. Insufficient information is provided for a reasonably available alternative (relocation) which could reduce the environmental impacts of the proposal.

ERP No. D-NOA-L91016-AK Rating LO, American Fisheries Act Amendments 61/61/13/8: Amendment 61 Groundfish Fishery of the Bering Sea and Aleutian Islands Area; Amendment 61 Groundfish of the Gulf of Alaska; Amendment 13 Bering Sea and Aleutian Islands King and Tanner Crab, and Amendment 8 Scallop Fishery off Alaska, Fishery Management Plans, AK.

Summary: EPA lacked objections to ending the traditional race for fish by implementing action alternatives associated with the American Fisheries Act (AFA) because it results in a safer, more efficient fishery that utilizes a higher percentage of pollock biomass harvested. EPA suggested that the fishing industry could exploit the temporal and spatial discretion afforded by AFA, and extract a greater percentage of biomass to further reduce impacts of process waste discharge to water quality.

ERP No. DS-NRC-A00150-00 Rating EC2, Decommissioning of Nuclear Facilities, Updated Information on Dealing With Decommissioning of Nuclear Power Reactors (NUREG-0586).

Summary: EPA expressed environmental concerns with this supplement to a generic EIS and requested clarifications and supplementary information on: determining when a particular decommissioning activity or site or operating condition is covered by the generic analysis; explaining the differing impact levels and the assumptions used in setting them; updating the analysis of the site's environmental condition; and, providing a more robust discussion of impacts to ground water.

Final EISs

ERP No. F-AFS-L65377-OR, South Fork Burnt River Ranger Planning Area, Development of Five New Allotment Management Plans (AMPS), Wallowa-Whitman National Forest, Unity Ranger District, Baker County, OR.

Summary: While the FEIS added additional technical information on restoration actions, EPA continued to have some environmental concerns with the project. Principally, the FEIS did not include a no-graze or reduced graze restoration alternative.

ERP No. F-COE-J64008-SD, Title VI Land Transfer South Dakota, Transfer of 91,178 Acres of Land at Lake Oahe, Lake Sharp, Lake Francise Case, and Lewis and Clark Lake, from the US Army Corps of Engineers (USACE) to the South Dakota Department of Game, Fish and Parks (SDGFP), SD.

Summary: No formal comment letter was sent to the preparing agency.

ERP No. F-FHW-F50003-IL, Fox River Bridge Crossings, Construction of up to Five-Bridges across the Fox River, Funding and NPDES and US Army COE Section 10 and 404 Permits Issuance, Kane County, IL.

SUMMARY: Based upon the highway agency's commitments (on travel-related mitigation and wetland compensation), EPA had no significant environmental concerns with the preferred alternative. EPA believed that the preferred alternative can satisfy the project's purpose and need while adequately mitigating direct and indirect impacts.

ERP No. F-FRC-L05221-WA, Cowlitz River Hydroelectric Project (No. 2016-044), Relicensing of the Existing 462-Megawatt Cowlitz River Hydroelectric Project, City of Tacoma, WA.

Summary: No formal comment letter was sent to the preparing agency.

ERP No. FS-NPS-K61137-AZ, Organ Pipe Cactus National Monument General Management Plan and Development Concept Plan, Updated Information concerning Re-Analysis of Cumulative Effects of the Sonoran Pronghorn Portion of the Sonoran Desert, Pima County, AZ.

Summary: No formal comment letter was sent to the preparing agency.

Dated: December 28, 2001.
Anne Norton Miller,
Director, Office of Federal Activities.

[FR Doc. 02-228 Filed 1-3-02; 8:45 am]

BILLING CODE 6560-50-U